DEPARTMENT OF AGRICULTURE

Animal and Plant Health Inspection Service

[Docket No. APHIS-2018-0084]

Notice of Request for Reinstatement of an Information Collection; Agriculture Select Agent Services; Import and Transport Permits for Non-Select Materials

AGENCY: Animal and Plant Health Inspection Service, USDA.

ACTION: Reinstatement of an information collection; comment request.

SUMMARY: In accordance with the Paperwork Reduction Act of 1995, this notice announces the Animal and Plant Health Inspection Service's intention to request a reinstatement of an information collection associated with the regulations for import and transport permits.

DATES: We will consider all comments that we receive on or before April 22, 2019.

ADDRESSES: You may submit comments by either of the following methods:

• Federal eRulemaking Portal: Go to http://www.regulations.gov/#!docketDetail;D=APHIS-2018-0084.

• Postal Mail/Commercial Delivery: Send your comment to Docket No. APHIS-2018-0084, Regulatory Analysis and Development, PPD, APHIS, Station 3A-03.8, 4700 River Road, Unit 118, Riverdale, MD 20737-1238.

Supporting documents and any comments we receive on this docket may be viewed at http://www.regulations.gov/#!docketDetail;D=APHIS-2018-0084 or in our reading room, which is located in room 1141 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: For information on the regulations for import and transport permits, contact Ms. Chelsea Bare, Policy Analyst, Agriculture Select Agent Services, Strategy & Policy, VS, APHIS, 1920 Dayton Ave., Ames, IA 50010; (515) 337-6128. For copies of detailed information on the information collection, contact Ms. Kimberly Hardy, APHIS' Information Collection Coordinator, at (301) 851-2483.

SUPPLEMENTARY INFORMATION:

Title: Agriculture Select Agent Services; Import and Transport Permits for Non-Select Materials.

OMB Control Number: 0579-0213.

Type of Request: Reinstatement of an information collection.

Abstract: The Animal Health Protection Act (the Act, 7 U.S.C. 8301 et seq.) authorizes the U.S. Department of Agriculture (USDA) to provide for the oversight of the importation, entry, and movement in the United States of animals, pests or diseases, or any material or tangible object that could harbor them. Under the Act, USDA regulates certain organisms, biological agents, toxins, vectors, and animal products that have the potential to pose a severe threat to animal health or to animal products through the risk of disease or pest introduction.

The Animal and Plant Health Inspection Service (APHIS) has the primary responsibility for implementing the provisions of the Act within USDA. APHIS regulations for these activities are contained in 9 CFR part 94 (animals or animal products), 9 CFR part 95 (animal byproducts) and 9 CFR part 122 (organisms and vectors). The regulations require an individual or entity, unless specifically exempted under the regulations, to apply for and be granted, by APHIS, a permit authorizing specific import or transport activities for regulated materials prior to engaging in the activities.

APHIS has revised the name of this information collection from “Select Agent Registration” to “Agriculture Select Agent Services; Import and Transport Permits for Non-Select Materials.”

The information collection activities associated with the regulation of select agents and toxins, a related activity, are included in Office of Management and Budget (OMB) control number 0920-0576. In addition to maintaining approval of OMB control number 0920-0576, we are asking OMB to approve our use of these information collection activities, as described, for the non-select agent aspects of the program for 3 years under 0579-0213.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public burden for this collection of information is estimated to average 1.84 hours per response.

Respondents: Researchers, universities, research and development organizations, diagnostic laboratories, and other interested parties.

Estimated annual number of respondents: 3,214.

Estimated annual number of responses per respondent: 1.

Estimated annual number of responses: 3,283.

Estimated total annual burden on respondents: 6,055 hours. (Due to averaging, the total annual burden hours may not equal the product of the annual number of responses multiplied by the reporting burden per response.)

All responses to this notice will be summarized and included in the request for OMB approval. All comments will also become a matter of public record.

Done in Washington, DC, this 14th day of February 2019.
Kevin Shea,
Administrator, Animal and Plant Health Inspection Service.

[FR Doc. 2019-02857 Filed 2-20-19; 8:45 am]

BILLING CODE 3410-34-P